FEDERAL MARITIME COMMISSION

Ocean Transportation Intermediary License Reissuances

Notice is hereby given that the following Ocean Transportation Intermediary licenses have been reissued by the Federal Maritime Commission pursuant to section 19 of the Shipping Act of 1984 (46 U.S.C. Chapter 409), and the regulations of the Commission pertaining to the licensing of Ocean Transportation Intermediaries, 46 CFR part 515.

License No. | Name/address | Date reissued
019355F | Abad Air, Inc., 10411 NW. 28th Street, Suite C-101, Doral, FL 33172 | December 8, 2006.
017096N | Aero Costa International, Inc., 22010 S. Wilmington Ave., Suite 208, Carson, CA 90745 | December 31, 2006.
016860N | Encompass Overseas Shipping, Inc., 1601 N. Grower Street, Suite 207, Hollywood, CA 90028 | December 21, 2006.
000988F | H.E. Schurig & Co. Of Louisiana, 177 O.K. Ave., Harahan, LA 70123 | November 17, 2006.
003309F | Nelson International, Inc., 6310 E. Virginia Beach Blvd., Norfolk, VA 23502 | December 13, 2006.
003812N | Transglobe Express, Inc., 729 North Route 83, Suite 324, Bensenville, IL 60106 | January 11, 2007.

Sandra L. Kusumoto,
Director, Bureau of Certification and Licensing.

[FR Doc. E7-2543 Filed 2-13-07; 8:45 am]

BILLING CODE 6730-01-P